SMALL BUSINESS ADMINISTRATION

[Declaration of Disaster #3462]

State of Tennessee; Amendment #1

In accordance with a notice received from the Federal Emergency Management Agency, dated November 22, 2002, the above numbered declaration is hereby amended to include Bledsoe, Fentress, Roane and Van Buren Counties in the State of Tennessee as disaster areas due to damages caused by severe storms, tornadoes and flooding occurring on November 9 through November 12, 2002.

In addition, applications for economic injury loans from small businesses located in Hamilton, McMinn, Meigs, Overton and Sequatchie Counties in the State of Tennessee may be filed until the specified date at the previously designated location. All other counties contiguous to the above named primary counties have been previously declared.

All other information remains the same, i.e., the deadline for filing applications for physical damage is January 13, 2003, and for economic injury the deadline is August 13, 2003.

(Catalog of Federal Domestic Assistance Program Nos. 59002 and 59008)
Dated: November 28, 2002.
Herbert L. Mitchell,
Associate Administrator for Disaster Assistance.

[FR Doc. 02-30446 Filed 11-29-02; 8:45 am]

BILLING CODE 8025-01-P